FEDERAL COMMUNICATIONS COMMISSION

47 CFR Part 73

[DA 02-2601; MB Docket No. 02-321, RM-10583; MB Docket No. 02-322, RM-10584]

Radio Broadcasting Services; Oak Grove and Opelousas, LA

AGENCY: Federal Communications Commission.

ACTION: Proposed rule.

SUMMARY: The Audio Division requests comment on a petition filed Charles Crawford proposing the allotment of Channel 289A at Oak Grove, Louisiana, as the community's second local aural transmission service. Channel 289A can be allotted to Oak Grove in compliance with the Commission's minimum distance separation requirements with a site restriction of 11.3 kilometers (7 miles) east to avoid a short-spacing to the license site of Station KVVP, Channel 289C3, Leesville, Louisiana. The coordinates for Channel 289A at Oak Grove are 29-43-41 North Latitude and 93-00-05 West Longitude. The Audio Division also requests comment on a petition filed by Opelousas Radio Broadcasters proposing the allotment of Channel 297A at Opelousas, Louisiana, as the community's third local aural transmission service. Channel 297A can be allotted to Opelousas in compliance with the Commission's minimum distance separation requirements with a site restriction of 7.3 kilometers (4.6 miles) south of the community. The coordinates for Channel 297A at Opelousas are 30-28-18 North Latitude and 92-03-14 West Longitude.

DATES: Comments must be filed on or before December 9, 2002, and reply comments on or before December 24, 2002.

ADDRESSES: Federal Communications Commission, 445 Twelfth Street, SW., Washington, DC 20554. In addition to filing comments with the FCC, interested parties should serve the petitioner, his counsel, or consultant, as follows: Charles Crawford, 4553 Bordeaux Avenue, Dallas, Texas 75205 and Opelousas Radio Broadcasters, c/o John M. Pelkey, Garvey, Schubert & Barer, 5th Floor, 1000 Potomac Street, NW., Washington, DC 20007.

FOR FURTHER INFORMATION CONTACT: Rolanda F. Smith, Media Bureau, (202) 418-2180.

SUPPLEMENTARY INFORMATION: This is a synopsis of the Commission's Notice of Proposed Rule Making, MB Docket Nos. 02-321, 02-322, adopted October 2, 2002, and released October 18, 2002. The full text of this Commission decision is available for inspection and copying during regular business hours at the FCC's Reference Information Center, Portals II, 445 Twelfth Street, SW., Room CY-A257, Washington, DC 20554. The complete text of this decision may also be purchased from the Commission's duplicating contractor, Qualex International, Portals II, 445 12th Street, SW., Room CY-B402, Washington, DC 20554, telephone 202-863-2893, facsimile 202-863-2898, or via e-mail qualexint@aol.com.

Provisions of the Regulatory Flexibility Act of l980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contact.

For information regarding proper filing procedures for comments, see 47 CFR 1.415 and 1.420.

List of Subjects in 47 CFR Part 73

Radio, Radio broadcasting.

For the reasons discussed in the preamble, the Federal Communications Commission proposes to amend 47 CFR Part 73 as follows:

PART 73—RADIO BROADCAST SERVICES

1. The authority citation for part 73 continues to read as follows:

Authority: 47 U.S.C. 154, 303, 334 and 336.

§ 73.202 [Amended]

2. Section 73.202(b), the Table of FM Allotments under Louisiana, is amended by adding Channel 289A at Oak Grove and Channel 297A at Opelousas.

Federal Communications Commission.
John A. Karousos,
Assistant Chief, Audio Division, Media Bureau.

[FR Doc. 02-27694 Filed 10-30-02; 8:45 am]

BILLING CODE 6712-01-P